INTERNATIONAL TRADE COMMISSION

Sunshine Act Meeting

TIME AND DATE: December 1, 2000 at 11:00 a.m.

PLACE: Room 101, 500 E Street S.W., Washington, DC 20436, Telephone: (202) 205-2000.

STATUS: Open to the public.

MATTERS TO BE CONSIDERED: 1. Agenda for future meeting: none

2. Minutes

3. Ratification List

4. Inv. Nos. 701-TA-403 and 731-TA-895-897 (Preliminary)(Pure Magnesium from China, Israel, and Russia)—briefing and vote. (The Commission is currently scheduled to transmit its determination to the Secretary of Commerce on December 1, 2000; Commissioners' opinions are currently scheduled to be transmitted to the Secretary of Commerce on December 8, 2000.)

5. Outstanding action jackets: none

In accordance with Commission policy, subject matter listed above, not disposed of at the scheduled meeting, may be carried over to the agenda of the following meeting.

Issued: November 22, 2000.
By order of the Commission.
Donna R. Koehnke,
Secretary.

[FR Doc. 00-30234 Filed 11-22-00; 11:17 am]

BILLING CODE 7020-02-U